DEPARTMENT OF HEALTH AND HUMAN SERVICES

Agency for Toxic Substances and Disease Registry

[Program Announcement 01108]

Soil-Pica, Soil-Ingestion and Health Outcome Investigation Site-Specific Health Activities; Notice of Availability of Funds

A. Purpose

The Agency for Toxic Substances and Disease Registry (ATSDR) announces the availability of fiscal year (FY) 2001 funds for a cooperative agreement program to conduct a site-specific activity health outcome investigation for the Vasquez Boulevard and I-70 (VBI70 site) in the Denver, Colorado metro area. This program addresses the “Healthy People 2010” priority area of Environmental Health.

The purpose of this program is: (1) To determine if soil-pica and soil-ingestion are potential sources of arsenic and lead exposure in preschool children in a community where arsenic and lead levels were found elevated in soil samples from residential yards and (2) to identify cases of acute arsenic or lead poisoning in households with a high contaminate level.

B. Eligible Applicants

Assistance will be provided only to The Colorado Department of Public Health and Environment (CDPHE). No other applications are solicited.

CDPHE is the most appropriate and qualified recipient to conduct the activities specified under this cooperative agreement because:

1. CDPHE, as the lead public health agency in Colorado, has conducted prior activities of this type (Globeville) in the Denver area.

2. CDPHE has experience working with community based research in the Denver area and has an ongoing relationship with the VBI70 community

3. The community and the Environmental Protection Agency (EPA) have requested that the study be conducted this summer to capture peak exposure from outdoor activities. Prior soil arsenic levels ranged from 12-133 mg/kg. The EPA's removal action level is 400 mg/kg. Prior soil lead levels ranged as high as 1,131. The EPA's removal action level for lead is 200 mg/kg.

C. Availability of Funds

Approximately $250,000 is available in FY 2001 to fund one award. It is expected that the award will begin on or about July 15, 2001, and will be made for a 12-month budget within a project period of up to 2 years. Funding estimates are subject to change.

D. Where To Obtain Additional Information

Business management technical assistance may be obtained from: Nelda Y. Godfrey, Grants Management Specialist, Grants Management Branch, Procurement & Grants Office, Centers for Disease Control and Prevention, Room 3000, 2920 Brandywine Road, Atlanta, GA 30341-4146, Telephone Number: (770) 488-2722, E-mail Address: nag9@cdc.gov.

Program technical assistance may be obtained from:

Dave Campagna, Ph.D., Epidemiologist, Division of Health Studies, Agency for Toxic Substances and Disease Registry, Executive Park, Building 4, Suite 1300, Atlanta, GA 30305, Telephone Number: (404) 639-5144, E-mail Address: Dcampagna@cdc.gov.

Or

Maggie Warren, Funding Resource Specialist, Division of Health Studies, Agency for Toxic Substances and Disease Registry, 1600 Clifton Rd., NE., Mail Stop E-31, Atlanta, GA 30333, Telephone Number: (404) 639-5114, E-mail Address: mcs9@cdc.gov.

Dated: May 16, 2001.
Georgi Jones,
Director, Office of Policy and External Affairs, Agency for Toxic Substances and Disease Registry.

[FR Doc. 01-12941 Filed 5-22-01; 8:45 am]

BILLING CODE 4163-70-P